ENVIRONMENTAL PROTECTION AGENCY

[FRL-6996-3]

Preliminary Draft Staff Paper for Particulate Matter

AGENCY: Environmental Protection Agency (EPA).

ACTION: Notice of a draft for public review and comment.

SUMMARY: On June 13, 2001, the Office of Air Quality Planning and Standards (OAQPS)of EPA will make available for public review and comment a preliminary draft document, Review of the National Ambient Air Quality Standards for Particulate Matter: Policy Assessment of Scientific and Technical Information (Preliminary Draft Staff Paper). The purpose of the Staff Paper is to evaluate the policy implications of the key scientific and technical information contained in a related EPA document, Air Quality Criteria for Particulate Matter, required under sections 108 and 109 of the Clean Air Act (CAA) for use in the periodic review of the national ambient air quality standards (NAAQS) for particulate matter (PM). The OAQPS also will make available for public review and comment a draft EPA document entitled, Particulate Matter NAAQS Risk Analysis Scoping Plan.

DATES: Comments on the preliminary draft Staff Paper and draft Risk Analysis Scoping Plan should be submitted on or before July 12, 2001.

ADDRESSES: Comments on the preliminary draft Staff Paper should be submitted to Dr. Mary Ross, Office of Air Quality Planning and Standards (MD-15), U.S. Environmental Protection Agency, Research Triangle Park, NC 27711; e-mail: ross.mary@epa.gov; telephone: (919) 541-5170; fax: (919) 541-0237.

Comments on the draft Risk Analysis Scoping Plan should be submitted to Mr. Harvey Richmond, Office of Air Quality Planning and Standards (MD-15), U.S. Environmental Protection Agency, Research Triangle Park, NC 27711; e-mail: richmond.harvey@epa.gov; telephone: (919) 541-5271; fax: (919) 541-0237.

Availability of Related Information

Single copies of the preliminary draft Staff Paper and draft Risk Analysis Scoping Plan may be obtained without charge by contacting Mary Ross at the address or telephone number listed above. Please include name, address, telephone number, e-mail if available, and delivery preference (mail or e-mail delivery).

Electronic Availability

The preliminary draft Staff Paper and draft Risk Analysis Scoping Plan can also be obtained online at the Agency's OAQPS Technology Transfer Network (TTN) under the technical area of Office of Air and Radiation Policy and Guidance (OAR P&G), and under the heading of “Staff Papers” at the following internet web site: http://www.epa.gov/ttn/oarpg/t1sp.html If assistance is needed in accessing the system, call the help desk at (919) 541-5384 in Research Triangle Park, NC.

FOR FURTHER INFORMATION CONTACT: Dr. Mary Ross at the address and telephone number given above.

SUPPLEMENTARY INFORMATION: The EPA is currently reviewing the NAAQS for PM. Sections 108 and 109 of the CAA require that EPA carry out a periodic review and revision, where appropriate, of the scientific criteria and the NAAQS for “criteria” air pollutants such as PM. Details of EPA's plans for review of the NAAQS for PM were announced in a previous Federal Register notice (62 FR 55201, October 23, 1997). The second external review draft of the Air Quality Criteria for Particulate Matter was recently made available for public review and comment (66 FR 18929, April 12, 2001).

The purpose of the Staff Paper is to evaluate the policy implications of the key scientific and technical information contained in the Air Quality Criteria document and identify critical elements that EPA staff believe should be considered in reviewing the NAAQS. The Staff Paper is intended to “bridge the gap” between the scientific review contained in the Air Quality Criteria document and the public health and welfare policy judgments required of the Administrator in reviewing the NAAQS (Natural Resources Defense Council v. Administrator, 902 F.2d 962, 967 (D.C. Cir. 1990).

This preliminary draft Staff Paper includes preliminary assessments of the scientific and technical information contained in the draft Air Quality Criteria document and discusses proposed analyses to be conducted for inclusion in a subsequent draft Staff Paper. Staff conclusions and recommendations on the PM NAAQS are not included in this preliminary draft but will be included in a subsequent draft to be made available for further review and comment as indicated below.

The draft Risk Analysis Scoping Plan describes EPA's plans and approach for conducting PM health risk analyses that will be summarized and discussed in the next draft of the Staff Paper.

The preliminary draft Staff Paper and draft Risk Analysis Scoping Plan, along with the second external review draft of the Air Quality Criteria for PM, will be reviewed at an upcoming public meeting of the Clean Air Scientific Advisory Committee (CASAC) of EPA's Science Advisory Board. A future Federal Register notice will inform the public of the date and location of that meeting. Following the CASAC meeting, EPA will prepare a revised draft Staff Paper, taking into account public and CASAC comments, and will make the revised draft available for further review and comment by CASAC and the public.

Dated: June 7, 2001.
Anna B. Duncan,
Acting Director, Office of Air Quality Planning and Standards.

[FR Doc. 01-15146 Filed 6-14-01; 8:45 am]

BILLING CODE 6560-50-P